DEPARTMENT OF HEALTH AND HUMAN SERVICES

Announcement of Meeting of the Secretary's Advisory Committee on National Health Promotion and Disease Prevention Objectives for 2030

AGENCY: Department of Health and Human Services, Office of the Secretary, Office of the Assistant Secretary for Health, Office of Disease Prevention and Health Promotion

ACTION: Notice.

SUMMARY: The U.S. Department of Health and Human Services (HHS) announces the next meeting of the Secretary's Advisory Committee on National Health Promotion and Disease Prevention Objectives for 2030 (Committee) regarding the development of national health promotion and disease prevention objectives for 2030. The meeting will be held online via webinar and is open to the public. The Committee will discuss the nation's proposed health promotion and disease prevention objectives and will provide recommendations to improve health status and reduce health risks for the nation by the year 2030. The Committee will deliberate and prioritize its recommendations for implementing the Healthy People 2030 objectives and develop recommendations regarding graphics for communicating key Healthy People 2030 elements. Pursuant to the Committee's charter, the Committee's advice must assist the Secretary in reducing the number of objectives while ensuring that the selection criteria identifies the most critical public health issues that are high-impact priorities supported by current national data.

DATES: The Committee will meet on June 26, 2019, from 12:00 p.m. to 4:00 p.m. Eastern Time (ET).

ADDRESSES: The meeting will be held online via webinar. Registration for the June 26, 2019 meeting will open on May 23, 2019 at the Healthy People website at http://www.healthypeople.gov.

FOR FURTHER INFORMATION CONTACT: Emmeline Ochiai, Designated Federal Officer, Secretary's Advisory Committee on National Health Promotion and Disease Prevention Objectives for 2030, U.S. Department of Health and Human Services, Office of the Assistant Secretary for Health, Office of Disease Prevention and Health Promotion, 1101 Wootton Parkway, Room LL-100, Rockville, MD 20852, (240) 453-8280 (telephone). Additional information is available on the Healthy People website at http://www.healthypeople.gov.

SUPPLEMENTARY INFORMATION: The names and biographies of the Committee members are available at https://www.healthypeople.gov/2020/about/history-development/healthy-people-2030-advisory-committee.

Purpose of Meeting: Through the Healthy People initiative, HHS leverages scientific insights and lessons from the past decade, along with new knowledge of current data, trends, and innovations, to develop the next iteration of national health promotion and disease prevention objectives. Healthy People provides science-based, 10-year national objectives for promoting health and preventing disease. Since 1979, Healthy People has set and monitored national health objectives that meet a broad range of health needs, encourage collaboration across sectors, guide individuals toward making informed health decisions, and measure the impact of our prevention and health promotion activities. Healthy People 2030 objectives will reflect assessments of major risks to health and wellness, changing public health priorities, and emerging technologies related to our nation's health preparedness and prevention. During the June 26, 2019 Committee meeting, the Committee will discuss and deliberate recommendations regarding the activities designed to implement and communicate the Healthy People 2030 objectives.

Public Participation at Meeting: Members of the public are invited to join the online Committee meeting. There will be no opportunity for oral public comments during the online Committee meeting. Written comments are welcome throughout the entire development process of the national health promotion and disease prevention objectives for 2030 and may be emailed to HP2030@hhs.gov.

To join the Committee meeting, individuals must pre-register at the Healthy People website at http://www.healthypeople.gov. Participation in the meeting is limited. Registrations will be accepted until maximum webinar capacity is reached. Registration for the June 26, 2019 meeting must be completed by 9:00 a.m. ET on June 26, 2019. A waiting list will be maintained should registrations exceed capacity, and individuals on the wait list will be contacted as additional space for the meeting becomes available. Registration questions may be directed to HealthyPeople@norc.org.

Authority: 42 U.S.C. 300u and 42 U.S.C. 217a. The Secretary's Advisory Committee on National Health Promotion and Disease Prevention Objectives for 2030 is governed by provisions of the Federal Advisory Committee Act (FACA), Public Law 92-463, as amended (5 U.S.C., App.) which sets forth standards for the formation and use of federal advisory committees.

Dated: May 2, 2019.
Donald Wright,
Deputy Assistant Secretary for Health.

[FR Doc. 2019-09923 Filed 5-13-19; 8:45 am]

BILLING CODE 4150-32-P